DEPARTMENT OF DEFENSE

Department of the Army; Corps of Engineers

Intent To Prepare an Environmental Impact Statement on an Application for a Department of the Army Permit under Section 404 of the Clean Water Act by the Upper Trinity Regional Water District for the Construction of Lake Ralph Hall, a Proposed 7,605-Surface-Acre Water Supply Reservoir in Fannin County, TX

AGENCY: Department of the Army, U. S. Army Corps of Engineers, DoD.

ACTION: Notice of intent.

SUMMARY: The U.S. Army Corps of Engineers, Fort Worth District (USACE) has received an application for a Department of the Army permit under Section 404 of the Clean Water Act (CWA) from the Upper Trinity Regional Water District (UTRWD) to construct Lake Ralph Hall. In accordance with the National Environmental Policy Act (NEPA) of 1969 (42 U.S.C. 4321 et seq.), the USACE has determined that issuance of such a permit may have a significant impact on the quality of the human environment and, therefore, requires the preparation of an Environmental Impact Statement (EIS).

The USACE intends to prepare an EIS to assess the environmental, social, and economic effects of issuance of a Department of the Army permit under Section 404 of the CWA for discharges of dredged and fill material into waters of the United States (U.S.) associated with the construction of the proposed water supply reservoir. In the EIS, the USACE will assess potential impacts associated with a range of alternatives.

DATES: A public scoping meeting was held on Tuesday, April 15, 2008, from 4 p.m. to 8:30 p.m. The purpose of this meeting was to disseminate information about the proposed project and its potential effects to the human environment, and to seek public comments on the proposed project.

ADDRESSES: The public scoping meeting was held at the Fannindel High School, Located at 601 West Main Street, Ladonia, Fannin County, TX.

FOR FURTHER INFORMATION CONTACT: For further information and/or questions about the proposed action and EIS, please contact Ms. Mary J. Flores, Regulatory Project Manager, by letter at Regulatory Branch, CESWF-PER-R, U.S. Army Corps of Engineers, P.O. Box 17300, Fort Worth, TX 76102-0300 or by telephone at (817) 886-1739.

SUPPLEMENTARY INFORMATION: 1. Description of the Proposed Project: The proposed Lake Ralph Hall would be located north of the City of Ladonia, Fannin County, TX. The proposed project site consists of approximately 11,200 acres, including approximately 505 acres associated with the proposed dam, principal spillway, emergency spillway, raw water intake structure and pump station, and approximately 7,605 acres associated with the proposed conservation pool. The proposed dam would be located on the North Sulphur River approximately 4.8 miles northeast of the City of Ladonia and 22.5 miles southeast of the City of Bonham, between State Highway 34 and Farm-to-Market Road 904 in Fannin County, TX. The proposed project would involve the discharge of dredged and fill material into approximately 14.3 acres of waters of the U.S. associated with the construction of the proposed Lake Ralph Hall dam, principal spillway, and emergency spillway. The proposed project would inundate approximately 325 acres of the North Sulphur River and its tributaries associated with the establishment of an approximately 7,603-acre conservation pool with an elevation of 551 feet mean sea level. Overall, the proposed project would adversely impact approximately 339.3 acres of waters of the U.S. associated with filling, clearing, excavation, and inundation.

The purpose of the proposed project is to provide water for approximately 33 towns, cities, and utility districts in portions of Collin, Cooke, Dallas, Denton, Fannin, Grayson and Wise Counties. The UTRWD has requested the right to impound up to 180,000 acre-feet of water. The Lake Ralph Hall conservation pool would impound approximately 160,235 acre-feet of water and would provide a firm yield of up to 45,000 acre-feet per year.

The proposed project would likely adversely impact 339.3 acres of waters of the U.S. as a result of dam construction and inundation of areas within the conservation pool. Waters of the U.S. affected would include the following: Approximately 57,858 linear feet (135 acres) along intermittent reaches of the North Sulphur River, 549,009 linear feet (131.8 acres) of named and unnamed ephemeral tributaries of the North Suphur River, and 72.5 acres of on-channel ponds. Approximately 1,900 acres of young and mature upland forested areas are present within the approximately 11,200-acre proposed project site. The Caddo-Lyndon B. Johnson (CLBJ) National Grasslands—Ladonia Unit, which is comprised of 2,780 acres, is located within the vicinity of the proposed project site. The proposed conservation pool would inundate approximately 254 acres within this unit. The CLBJ National Grasslands are administered by the U.S. Forest Service and managed under a cooperative agreement with the Texas Parks and Wildlife Department.

2. Alternatives: Alternatives available to the USACE are to: (1) Issue the Department of the Army permit; (2) issue the Department of the Army permit with special conditions; or (3) deny the Department of the Army permit. Alternatives available to UTRWD include: (1) Constructing Lake Ralph Hall as proposed by UTRWD; (2) constructing Lake Ralph Hall as proposed by UTRWD, with modifications; (3) developing or acquiring other water supply sources; or (4) no action.

3. Scoping and Public Involvement Process: A public scoping meeting to disseminate information about the proposed project and its potential effects to the human environment, and to seek public comments on the proposed project was conducted (see DATES & ADDRESSES). A Public Notice was issued on October 10, 2008, to extend the opportunity for federal, state, and local agencies and officials, and interested individuals to further comment on the proposed project and the scope of the EIS.

4. Significant Issues: Issues to be given significant analysis in the EIS are likely to include, but will not be limited to: the effects of the lake on the immediate and adjacent property owners, nearby communities, downstream hydraulics and hydrology, streams, wetlands, surface water quantity and quality, groundwater quantity and quality, geologic resources, vegetation, fish and wildlife, threatened and endangered species, soils, prime farmland, noise, light, aesthetics, historic and pre-historic cultural resources, socioeconomics, land use, public roads, and air quality.

5. Cooperating Agencies: At this time, no other federal or state agencies have been established as cooperating agencies in preparation of the EIS. However, numerous federal and state agencies, including the U.S. Environmental Protection Agency, the U.S. Fish and Wildlife Service, the Texas Commission on Environmental Quality, the Texas Parks and Wildlife Department, the Texas Historical Commission, and the U.S. Forest Service are expected to be involved in the preparation of, and provide comments on, the EIS.

6. Additional Review and Consultation: Compliance with other federal and state requirements that will be addressed in the EIS include, but will not be limited to, state water quality certification under Section 401 of the Clean Water Act, protection of water quality under the Texas Pollutant Discharge Elimination System, protection of air quality under the Texas Air Quality Act, protection of endangered and threatened species under Section 7 of the Endangered Species Act, and protection of cultural resources under Section 106 of the National Historic Preservation Act.

7. Availability of the Draft EIS: The Draft EIS is projected to be available by June 2009. A public hearing will be conducted following the release of the Draft EIS.

Brenda S. Bowen,
Army Federal Register Liaison Officer.

[FR Doc. E8-24818 Filed 10-16-08; 8:45 am]

BILLING CODE 3720-58-P